DEPARTMENT OF HOMELAND SECURITY

U.S. Customs and Border Protection

[Docket No. USCBP-2019-0018]

Extension of Comment Period: Request for Public Comments Regarding the Construction of Pedestrian Barrier Within Certain Areas in the Rio Grande Valley, Texas

AGENCY: U.S. Customs and Border Protection, Department of Homeland Security.

ACTION: Request for comments regarding the location of proposed pedestrian barrier; notice of extension of comment period.

SUMMARY: This document provides an additional 30 days for interested parties to submit comments regarding U.S. Customs and Border Protection's (CBP) proposal to construct primary pedestrian barrier in certain areas in the Rio Grande Valley (RGV) in Starr County, Texas, including within the cities of Roma, Escobares, La Grulla, Rio Grande City, and the census-designated place of Salineno, Texas (the Affected Areas). CBP published a Request for Public Comments on its proposal to locate and construct primary pedestrian barrier in the Affected Areas as required by section 232(b) of the Consolidated Appropriations Act of 2019 in the Federal Register on June 27, 2019, with comments due on or before August 26, 2019. CBP also requested comments on potential impacts to the environment, historical preservation, culture, quality of life, and commerce, including socioeconomic impacts from the construction of primary pedestrian barrier in the Affected Areas. In the interest of receiving well thought-out and developed comments from stakeholders, CBP is extending the comment period to September 25, 2019.

DATES: To ensure consideration, comments must be received on or before September 25, 2019.

ADDRESSES: Comments may be submitted electronically through the Federal eRulemaking Portal: http://www.regulations.gov. Search docket number USCBP-2019-0018 and follow the instructions for sending comments.

Instructions: All comments received will be posted without change to http://www.regulations.gov, including any personal information provided. For detailed instructions on sending comments, see the “Request for Public Comments” heading of the SUPPLEMENTARY INFORMATION section of this document.

Docket: For access to docket number USCBP-2019-0018 to read the June 27, 2019 Federal Register notice, background documents and comments received, go to http://www.regulations.gov.

FOR FURTHER INFORMATION CONTACT: Paul Enriquez, Acquisition, Real Estate, and Environmental Director, Border Wall Program Management Office, U.S. Border Patrol at (949) 643-6365 or visit CBP's website: http://www.cbp.gov/about/environmental-cultural-stewardship/nepa-documents/docs-review.

SUPPLEMENTARY INFORMATION:

Public Comments

All interested parties are invited to participate in the comment process. U.S. Customs and Border Protection (CBP) invites agencies, organizations and the general public to provide input on the location of the pedestrian barrier and issues related to the environment, historical preservation, culture, quality of life, and commerce, including socioeconomic impacts.

All interested parties are encouraged to submit comments through the Federal eRulemaking Portal at http://www.regulations.gov. If you cannot submit your material by using http://www.regulations.gov, contact the person in the FOR FURTHER INFORMATION contact section of this document for alternative instructions. When submitting comments, please include your name and contact information. Comments received in response to this solicitation, including names and contact information of those who comment, will be part of the public record for this proposed action. Documents mentioned in this notice, and all public comments, will be available in our online docket at http://www.regulations.gov, and can be viewed by following the website's instructions. Additionally, if you visit the online docket and sign up for email alerts, you will be notified when comments are posted.

After the public comment period is complete and CBP has reviewed the results, a response to the comments received will be published in the Federal Register and made available on CBP's website: http://www.cbp.gov/about/environmental-cultural-stewardship/nepa-documents/docs-review.

Background

On June 27, 2019, CBP published a notice in the Federal Register (84 FR 30745), requesting public comments regarding the construction of pedestrian barrier within the Rio Grande Valley (RGV) in Starr County, Texas, including within the cities of Roma, Escobares, La Grulla, Rio Grande City, and the census-designated place of Salineno, Texas (the Affected Areas). CBP also requested comments on potential impacts to the environment, historical preservation, culture, quality of life, and commerce, including socioeconomic impacts from the construction of primary pedestrian barrier in the Affected Areas. That document requested that comments be received no later than August 26, 2019.

Extension of Comment Period

CBP believes that it is very important to receive well thought-out and developed comments with respect to the construction of pedestrian barrier within the Affected Areas. Therefore, CBP has decided to allow additional time for the public to submit comments on the proposed action. Accordingly, the comment period is extended to September 25, 2019, and comments must be received on or before that date.

Dated: August 20, 2019.
Kelly C. Good,
Deputy Executive Director, Program Management Office Directorate, U.S. Border Patrol, U.S. Customs and Border Protection.

[FR Doc. 2019-18306 Filed 8-23-19; 8:45 am]

BILLING CODE 9111-14-P